DEPARTMENT OF THE INTERIOR

Bureau of Land Management

[LLORC01000. L63100000. HD0000.17XL1116AF; HAG 17-0028]

Notice of Public Meeting for the Coastal Oregon Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the Coastal Oregon Resource Advisory Council (RAC) will meet as indicated below:

DATES: The Coastal Oregon RAC will hold a public meeting Wednesday, November 9, 2016, from 9:00 a.m. to 4:30 p.m. and Thursday, November 10, 2016 from 8:00 a.m. to 1:00 p.m.

ADDRESSES: The Coastal Oregon RAC will meet at the Coos Bay District Office, 1300 Airport Lane, North Bend, Oregon 97459.

FOR FURTHER INFORMATION CONTACT: Megan Harper, Public Affairs Specialist, BLM Coos Bay District Office, 1300 Airport Lane, North Bend, Oregon 97459, (541) 751-4353, or email m1harper@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The Coastal Oregon RAC consists of 15 members chartered and appointed by the Secretary of the Interior. Their diverse perspectives are represented in commodity, conservation, and general interests. They provide advice to BLM resource managers regarding management plans and proposed resource actions on public land in coastal Oregon. Tentative agenda items for the November 9 and November 10, 2016, meeting include an overview of the BLM's implementation of the Coastal and Northwestern Oregon Resource Management Plan and a field trip to the Coos Bay Wagon Road Pilot timber sale.

A public comment period will be available on November 9, 2016 at 2:15 p.m. Unless otherwise approved by the Coastal Oregon RAC Chair, the public comment period will last no longer than 30 minutes, and each speaker may address the Coastal Oregon RAC for a maximum of 5 minutes. Meeting times and the duration scheduled for public comment periods may be extended or altered when the authorized representative considers it necessary to accommodate necessary business and all who seek to be heard regarding matters before the Coastal Oregon RAC.

Before including your address, phone number, email address, or other personal identifying information in your comments, please be aware that your entire comment-including your personal identifying information-may be made publicly available at any time. While you can ask us in your comment to withhold your personal identifying information from public review, we cannot guarantee that we will be able to do so.

Dated: October 28, 2016.
Patricia Burke,
Coos Bay District Manager.

[FR Doc. 2016-26811 Filed 11-4-16; 8:45 am]

BILLING CODE 4310-33-P